DEPARTMENT OF THE INTERIOR

Bureau of Land Management

[CA-939-04-1610-00]

Notice of Availability of the California Coastal National Monument Proposed Resource Management Plan and Final Environmental Impact Statement

AGENCY: Bureau of Land Management, Interior.

ACTION: Notice of availability.

SUMMARY: In accordance with the National Environmental Policy Act of 1969, and under the authority of the Federal Land Policy and Management Act of 1976, the Bureau of Land Management (BLM) has prepared a Proposed Resource Management Plan (RMP)/Final Environmental Impact Statement (EIS) for the California Coastal National Monument (CCNM) that is now available for public review.

DATES: BLM Planning Regulations (43 CFR 1610.5-2) state that any person who participated in the planning process, and has an interest that may be adversely affected, may protest. The protest must be filed within 30 days of the date that the Environmental Protection Agency publishes the notice of availability for the CCNM Proposed RMP/Final EIS in the Federal Register. Instructions for filing of protests are described in the front cover of the CCNM Proposed RMP/Final EIS and are included in the SUPPLEMENTARY INFORMATION section of this notice.

FOR FURTHER INFORMATION, CONTACT: Rick Hanks, California Coastal National Monument, 299 Foam Street, Monterey, California, 93940; phone: (831) 372-6115; or e-mail at: cacnm@ca.blm.gov.

SUPPLEMENTARY INFORMATION: The Proposed RMP would provide direction for managing the approximate 1000 acres of offshore rocks, small islands, exposed reefs, and pinnacles that comprise the California Coastal National Monument (the Monument). The Monument was established by Presidential Proclamation on January 11, 2000, under the authority of the Antiquities Act of 1906, and directed the Secretary of the Interior to manage the Monument through the BLM. The Monument lies within the jurisdiction of 15 California counties and five BLM field offices, and at least 25 percent of the coastal portion of the mainland adjacent to the Monument is contained within the California State Parks System. Planning for the Monument officially began with a Federal Register notice on April 24, 2002 initiating scoping. The California Department of Fish and Game, the California Department of Parks and Recreation, the United States Air Force, and the Cher-Ae Heights Indian Community of the Trinidad Rancheria, a federally recognized tribe, are cooperating agencies in the development of this RMP. BLM has sought public and governmental participation in the development of this RMP and will continue to pursue partnerships in the management of the Monument. Because of the unique nature of the Monument, many governmental entities have jurisdiction over resources immediately adjacent to it and are integrally important to meeting the goals and objectives for the Monument, as established in the RMP.

Copies of the California Coastal National Monument Proposed RMP and Final EIS have been sent to affected Federal, State, and Local Government agencies and to interested parties. Copies of the Proposed RMP/Final EIS are available for public inspection at:

• California Coastal National Monument Office, 299 Foam Street, Monterey, California.

• California State Office, 2800 Cottage Way, Sacramento, California.

• Arcata Field Office, 1695 Heindon Road, Arcata, California.

• Ukiah Field Office, 2550 North State Street, Ukiah, California.

• Hollister Field Office, 20 Hamilton Court, Hollister, California.

• Bakersfield Field Office, 3801 Pegasus Drive, Bakersfield, California.

• Palm Springs Field Office, 690 West Garnet Avenue, North Palm Springs, California.

• California Desert District Office, 22835 Calle de San Juan de Los Lagos, Moreno Valley.

Interested persons may also review the Proposed RMP/Final EIS on the internet at http://www.ca.blm.gov/pa/coastal_monument. Comments on the Draft RMP/Draft EIS received from the public are addressed in the Proposed RMP/Final EIS. Public comments resulted in the addition of clarifying text, but did not significantly change the proposed land use decisions. Instructions for filing a protest with the Director of the BLM regarding the Proposed RMP/Final EIS may be found at 43 CFR 1610.5. A protest may only raise those issues which were submitted for the record during the planning process. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of the BLM protest coordinator at (202) 452-5112, and e-mails to Brenda_Hudgens-Williams@blm.gov. Please direct the follow-up letter to the appropriate address provided below. The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Director's decision is wrong.

All protests must be in writing and mailed to the following address:

Regular Mail: Director (210), Attention: Brenda Williams, P.O. Box 66538, Washington, DC 20035.

Overnight Mail: Director (210) Attention: Brenda Williams, 1620 L Street, NW., Suite 1075, Washington, DC 20036.

The Director will promptly render a decision on the protest. The decision will be in writing and will be sent to the protesting party by certified mail, return receipt requested. The decision of the Director shall be the final decision of the Department of the Interior.

Dated: April 1, 2005.
J. Anthony Danna,
Deputy State Director, Natural Resources.

[FR Doc. 05-11494 Filed 6-9-05; 8:45 am]

BILLING CODE 4310-40-P